SECURITIES AND EXCHANGE COMMISSION

[File No. 500-1]

In the Matter of Corpas Investments, Inc., Paving Stone Corp., and Wastech, Inc.; Order of Suspension of Trading

August 9, 2006.

It appears to the Securities and Exchange Commission that there is a lack of current and accurate information concerning the securities of Corpas Investments, Inc. (n/k/a Corpas Holdings, Inc.) because it has not filed any periodic reports since the period ended September 30, 2001.

It appears to the Securities and Exchange Commission that there is a lack of current and accurate information concerning the securities of Paving Stone Corp. (f/k/a Royal Acquisition Inc.) because it has not filed any periodic reports since the period ended September 30, 2003.

It appears to the Securities and Exchange Commission that there is a lack of current and accurate information concerning the securities of Wastech, Inc. because it has not filed any periodic reports since the period ended March 31, 2003.

Therefore, it is ordered, pursuant to Section 12(k) of the Securities Exchange Act of 1934, that trading in the above-listed companies is suspended for the period from 9:30 a.m. EST on August 9, 2006, through 11:59 p.m. EST on August 22, 2006.

By the Commission.
Nancy M. Morris,
Secretary.

[FR Doc. 06-6889 Filed 8-9-06; 11:49 am]

BILLING CODE 8010-01-P